CHEMICAL SAFETY AND HAZARD INVESTIGATION BOARD

Senior Executive Service Performance Review Board

AGENCY: Chemical Safety and Hazard Investigation Board.

ACTION: Notice.

SUMMARY: This notice announces a change in the membership of the Senior Executive Service Performance Review Board for the Chemical Safety and Hazard Investigation Board (CSB).

DATES: Effective May 26, 2011.

FOR FURTHER INFORMATION CONTACT: John Lau, Human Resources Director, (202) 261-7600.

SUPPLEMENTARY INFORMATION: 5 U.S.C. 4314(c)(1) requires each agency to establish, in accordance with regulations prescribed by the Office of Personnel Management, a performance review board (PRB). The PRB reviews initial performance ratings of members of the Senior Executive Service (SES) and makes recommendations as to final annual performance ratings for senior executives. Because the CSB is a small independent Federal agency, the SES members of the CSB's PRB are drawn from other Federal agencies.

The Chairperson of the CSB has appointed the following individual to the CSB Senior Executive Service Performance Review Board:

PRB Member—Mary Johnson, General Counsel, National Mediation Board.

Ms. Johnson replaces Gary L. Halbert (previously General Counsel, National Transportation Safety Board). The service of Mr. Halbert on the PRB has come to a close. His appointment was originally announced in the Federal Register of January 8, 2010 (75 FR 1028).

William B. Wark (CSB Board Member) continues to serve as the Chair of the PRB, as announced in the Federal Register of November 15, 2007 (72 FR 64192). David Capozzi (Executive Director, United States Access Board) continues to serve as a Member of the PRB, as announced in the Federal Register of December 5, 2008 (73 FR 74138).

This notice is published in the Federal Register pursuant to the requirement of 5 U.S.C. 4314(c)(4).

Dated: May 17, 2011.
Rafael Moure-Eraso,
Chairperson.

[FR Doc. 2011-13041 Filed 5-25-11; 8:45 am]

BILLING CODE 6350-01-P